DEPARTMENT OF ENERGY

Federal Energy Regulatory Commission

[Docket Nos. CP99-541-003, RP03-28-000]

Cotton Valley Compression, L.L.C.; Notice of Compressor Change Tariff, Rate, and Environmental Filing

October 22, 2002.

Take notice that on October 16, 2002, Cotton Valley Compression, L.L.C. (Cotton Valley), filed in Docket Nos. CP99-541-003 and RP03-28-000 a report (1) describing the first change of leased compressor units, (2) recomputing the stated rates to reflect the cost and capacity impacts of that compressor change, (3) replacing specific tariff sheets to reflect those revised rates, and (4) satisfying environmental conditions attached to its original certificate of public convenience and necessity issued in 2000. 90 FERC ¶ 61,206.

In that certificate besides authorizing Cotton Valley's 1,200 horsepower of installed leased compression with a capacity of 13,100 Dth/d, the Commission authorized it to operate leased compressors up to 3,000 horsepower with a capacity of up to 31,000 Dth/d, without further certification or abandonment for changes up or down within this upper level, subject to certain conditions.

In pertinent part Cotton Valley reports that: (1) it replaced the 600 horsepower Waukesha Dresser unit with a single 1,350 horsepower CAT 3516, with 1,950 horsepower of combined compression and a maximum firm capacity of 17,800 Dth/day; (2) it certifies that, with the new leased compressor configuration described above, the previously determined acceptable air emission level of less than 100 TPY combined has not been exceeded; (3) it shows that the 1999 compressor noise reading of Ldn of 46 dBA at the nearby noise sensitive areas (NSA) for the original 1,200 hp three-unit configuration has been reduced to an Ldn of 40.5 dBA at the NSA; (4) it both computes new rates and revises tariff sheets to reflect revised FT base reservation rate which drops from $0.86 to $0.6406 per Dth per month, and the revised FT deferred compressor surcharge which increases from $0.9258 to $1.354 per Dth per month, with comparable IT rate revisions.

The following revised tariff sheets are being filed:

First Revised Sheet No. 2 superceding Original Sheet No. 2

First Revised Sheet No. 4 superceding Original Sheet No. 2

Cotton Valley requests that these sheets be made effective on November 15, 2002.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's website at http://www.ferc.gov using the “FERRIS” link. Enter the docket number excluding the last three digits in the docket number field to access the document. For Assistance, call (202)502-8222 or for TTY, (202) 502-8659. Comments, protests and interventions may be filed electronically via the Internet in lieu of paper. The Commission strongly encourages electronic filings. See, 18 CFR 385.2001(a)(1)(iii) and the instructions on the Commission's web site under the “e-Filing” link.

Linwood A. Watson, Jr.,
Deputy Secretary.

[FR Doc. 02-27451 Filed 10-28-02; 8:45 am]

BILLING CODE 6717-01-P